DEPARTMENT OF THE INTERIOR

National Park Service

[NPS-WASO-NAGPRA-NPS0038566; PPWOCRADN0-PCU00RP14.R50000]

Notice of Intended Repatriation: Oberlin College, Oberlin, OH

AGENCY: National Park Service, Interior.

ACTION: Notice.

SUMMARY: In accordance with the Native American Graves Protection and Repatriation Act (NAGPRA), the Allen Memorial Art Museum at Oberlin College intends to repatriate a certain cultural item that meets the definition of an unassociated funerary object that has a cultural affiliation with the Indian Tribes or Native Hawaiian organizations in this notice.

DATES: Repatriation of the cultural item in this notice may occur on or after September 23, 2024.

ADDRESSES: Dr. Amy Margaris, Oberlin College, Department of Anthropology, King Building, 10 N Professor Street, Oberlin, OH 44074, telephone (440) 775-5173, email amy.margaris@oberlin.edu and Dr. Andria Derstine, John G.W. Cowles Director, Allen Memorial Art Museum, Oberlin College, 87 N Main Street, Oberlin, OH 44074, telephone (440) 775-6872, email andria.derstine@oberlin.edu.

SUPPLEMENTARY INFORMATION: This notice is published as part of the National Park Service's administrative responsibilities under NAGPRA. The determinations in this notice are the sole responsibility of Oberlin College, and additional information on the determinations in this notice, including the results of consultation, can be found in the summary or related records. The National Park Service is not responsible for the determinations in this notice.

Abstract of Information Available

A total of one cultural item has been requested for repatriation. The one unassociated funerary object is a ceramic vessel. The vessel (object number 1920.8, “Water Bottle in the Shape of a Bird”) is housed in the Allen Memorial Art Museum (AMAM) on the campus of Oberlin College and was attributed in some AMAM records as Peruvian (Chimú) in origin. However, other AMAM records describe it as “American Indian, 1100-1400, Gift of Mrs. H.H. Wright, 1920” which accords with a paper label on the vessel bottom that reads “This Water Jar was taken from a [. . .] grave in Prehistoric gravey [. . ., presumably “graveyard”] S of Nashville—Aug. 1885. H.” [. . ., presumably H.H. Wright]. Herbert H. Wright was an 1873 graduate of Oberlin College who served as professor of mathematics and music at Fisk University in Nashville, TN, and is described in Antiquities of Tennessee (Gates P. Thruston, 1897) as having discovered a bird-shaped vessel in the Noel Cemetery. Noel Cemetery (40DV3) in Davidson County, TN, is a well-documented Native American burial site dating to the Mississippian period. It is not known if any potentially hazardous substances were used to treat this cultural item.

Determinations

Oberlin College has determined that:

• The one unassociated funerary object described in this notice is reasonably believed to have been placed intentionally with or near human remains, and is connected, either at the time of death or later as part of the death rite or ceremony of a Native American culture according to the Native American traditional knowledge of an Indian Tribe. The unassociated funerary object has been identified by a preponderance of the evidence as removed from a specific burial site with cultural affiliation to an Indian Tribe.

• There is a reasonable connection between the cultural item described in this notice and the Cherokee Nation; Eastern Band of Cherokee Indians; and the United Keetoowah Band of Cherokee Indians in Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 23, 2024. If competing requests for repatriation are received, Oberlin College must determine the most appropriate requestor prior to repatriation. Requests for joint repatriation of the cultural items are considered a single request and not competing requests. Oberlin College is responsible for sending a copy of this notice to the Indian Tribes and Native Hawaiian organizations identified in this notice and to any other consulting parties.

Authority: Native American Graves Protection and Repatriation Act, 25 U.S.C. 3004 and the implementing regulations, 43 CFR 10.9.

Dated: August 20, 2024.
Melanie O'Brien,
Manager, National NAGPRA Program.

[FR Doc. 2024-18964 Filed 8-22-24; 8:45 am]

BILLING CODE 4312-52-P